DEPARTMENT OF HOMELAND SECURITY

Office of the Secretary

6 CFR Part 5

[Docket No. DHS-2011-0031]

Privacy Act of 1974: Implementation of Exemptions; Department of Homeland Security/U.S. Coast Guard—008 Courts Martial Case Files System of Records; Correction

AGENCY: Privacy Office, DHS.

ACTION: Final rule; correction.

SUMMARY: The Department of Homeland Security published in the Federal Register of May 13, 2011 a final rule that amended its regulations to exempt portions of a Department of Homeland Security/U.S. Coast Guard system of records titled, “Department of Homeland Security/U.S. Coast Guard—008 Courts Martial Case Files System of Records″ from certain provisions of the Privacy Act. Inadvertently the wrong paragraph number was designated in the regulatory text. This document corrects that error.

DATES: This final rule is effective July 6, 2011.

FOR FURTHER INFORMATION CONTACT: For general questions please contact Marilyn Scott-Perez (202-475-3515), Privacy Officer, U.S. Coast Guard. For privacy issues please contact Mary Ellen Callahan (703-235-0780), Chief Privacy Officer, Privacy Office, U.S. Department of Homeland Security, Washington, DC 20528.

SUPPLEMENTARY INFORMATION: The Department of Homeland Security published a document in the Federal Register of May 13, 2011, a final rule that amended its regulations to exempt portions of a Department of Homeland Security/U.S. Coast Guard system of records titled, “Department of Homeland Security/U.S. Coast Guard -008 Courts Martial Case Files System of Records″ from certain provisions of the Privacy Act. Specifically, the Department amended Appendix C to 6 CFR part 5 to exempt portions of the Department of Homeland Security/U.S. Coast Guard—008 Courts Martial Case Files System of Records from one or more provisions of the Privacy Act because of criminal, civil, and administrative enforcement requirements. Inadvertently the paragraph designator “12” was used in the regulatory text instead of “54.” This document corrects that error.

Accordingly, 6 CFR part 5, appendix C is corrected as follows:

PART 5—DISCLOSURE OF RECORDS AND INFORMATION

1. The authority citation for part 5 continues to read as follows:

Authority: Pub L. 107-296, 116 Stat. 2135; (6 U.S.C. 101 et seq.); 5 U.S.C. 301.

Appendix C to Part 5—[Corrected]

2. In appendix C to part 5, the paragraph “12” following paragraph 53 is redesignated as “54.”

Dated: June 21, 2011.
Mary Ellen Callahan,
Chief Privacy Officer, Department of Homeland Security.

[FR Doc. 2011-16805 Filed 7-5-11; 8:45 am]

BILLING CODE 9110-04-P